DEPARTMENT OF THE INTERIOR

Fish and Wildlife Service

Notice of Receipt of Applications for Permit

Endangered Species

The following applicants have applied for a permit to conduct certain activities with endangered species. This notice is provided pursuant to section 10(c) of the Endangered Species Act of 1973, as amended (16 U.S.C. 1531, et seq.):

PRT-018316

Applicant: Smithsonian National Museum of Natural History, Washington, DC.

The applicant requests a permit to import a specimen of Cahow (Pterodroma cahow) found dead in the wild from natural causes, for the purpose of scientific research.

PRT-030276

Applicant: Eckerd College, St. Petersburg, FL.

The applicant requests a permit to import tissue and blood samples obtained from wild Hawksbill Sea Turtle (Eretmochelys imbricata) from the Cayman Islands Department of Environment, for the purpose of scientific research.

PRT-844694

Applicant: National Marine Fisheries Service, Southwest Fisheries Science Center, La Jolla, CA.

The applicant requests a permit to Re-Export samples obtained from Leatherback Sea Turtle (Dermochelys coriacea) and Hawksbill Sea Turtle (Eretmochelys imbricata) for the purpose of enhancement of scientific research.

PRT-030747

Applicant: Donald P. Wilson, Stoneham, MA.

The applicant requests a permit to import the sport-hunted trophy of one male bontebok (Damaliscus pygargus dorcas) culled from a captive herd maintained under the management program of the Republic of South Africa, for the purpose of enhancement of the survival of the species.

Marine Mammal

The public is invited to comment on the following application for a permit to conduct certain activities with marine mammals. The application was submitted to satisfy requirements of the Marine Mammal Protection Act of 1972, as amended (16 U.S.C. 1361 et seq.) and the regulations governing marine mammals (50 CFR 18).

PRT-030691

Applicant: Jerry W. Peterman, Dallas, TX.

The applicant requests a permit to import a polar bear (Ursus maritimus) sport-hunted from the Northern Beaufort Sea polar bear population, Northwest Territories, Canada for personal use.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: July 21, 2000.
Kristen Nelson,
Chief, Branch of Permits, Office of Management Authority.

[FR Doc. 00-18974 Filed 7-26-00; 8:45 am]

BILLING CODE 4310-55-U